DEPARTMENT OF HEALTH AND HUMAN SERVICES

Administration for Children and Families

Proposed Information Collection Activity; Comment Request

Proposed Projects

Title: Evaluation to Determine the Effectiveness of the Public Assistance Reporting Information System (PARIS).

OMB No. New Collection.

Description: The PARIS program is a voluntary information exchange system that allows States and other entities (counties or jurisdictions like the District of Columbia) to submit Medical Assistance, Medicaid, Food Stamp, and Temporary Assistance for Needy Families (TANF) participant data to the Administration for Children and Families (ACF) to be matched with Federal and participating States' databases to detect potential dual participation and improper payments. Launched by ACF in 1997, the PARIS project was developed to provide States with usable data by which they could identify and correct erroneous payments and to promote State partnerships and matching of cross-state data to improve program integrity. There are currently 36 entities participating in the PARIS project (Member States). ACF is encouraging the expansion of PARIS via a grantee program by providing funds to Member States to partner with nonparticipating States to develop the internal organization and mechanisms needed for PARIS participation. An implementation and outcome evaluation of the PARIS program will determine the effectiveness of the program and the resulting impact on reducing improper payments. Data collected will determine factors affecting program participation, relevant PARIS administrative and implementation information, challenges in implementation, cost of program participation and estimated savings through identified and resolved participant matches.

Health Systems Research, an ACF Contractor conducting the research, will send State-level PARIS Administrators surveys regarding the organization and administration of PARIS, processes used for submitting data, and follow-up protocols. Information obtained though key-informant interviews of Medicaid, TANF, and Food Stamp program officials will provide information regarding relationships among the various stakeholders, opinions on effectiveness of PARIS, and the rationale behind decisions. E-mails sent to States will contain cost-accounting forms, providing cost information on program start-up, submission of data, follow-up of potential participant matches, and will then be verified through telephone interviews with program and fiscal administrators. As part of the final PARIS evaluation, a prospective and retrospective analysis is planned. Collections of prospective information from a sample of States that are not yet committed to permanent participation in PARIS and prospective and retrospective information from States already participating in the program are planned.

Two current PARIS sites and one non-PARIS grantee site will comprise a pilot of the data collection instruments to ensure evaluation questions are clear and elicit salient responses. Findings from the pilot study will inform the final PARIS evaluation tool development.

Respondents: Approximately sixteen States will comprise the sample, with an estimated twelve respondents from each State, county or jurisdiction.

Annual Burden Estimates
Instrument | Number of respondents | Numer of responses per respondent | Average burden hours per response | Total burden hours
State-Level PARIS Administrator Survey | 16 | 1 | 1 | 16
Medicaid, Food Stamp and TANF Program Officials Key-Informant Interviews | 160 | 1 | 1 | 160
State Cost-Accounting Forms | 16 | 1 | 1.5 | 24
Fiscal Administrator Telephone Interviews | 32 | 1 | 1.5 | 48

Estimated Total Annual Burden Hours: 248.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 22, 2006.
Robert Sargis,
Reports Clearance Officer.

[FR Doc. 06-2997 Filed 3-28-06; 8:45am]

BILLING CODE 4184-01-M